DEPARTMENT OF COMMERCE

National Oceanic and Atmospheric Administration

RIN 0648-XA643

Snapper-Grouper Fishery Off the Southern Atlantic States and Coral and Coral Reefs Fishery in the South Atlantic; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Keith Farmer, on behalf of the North Carolina Department of Environment and Natural Resources Aquariums Division (North Carolina Aquariums). If granted, the EFP would authorize North Carolina Aquariums to collect, with certain conditions, various species of reef fish and live rock in Federal waters off North Carolina. The specimens would be used in educational exhibits displaying North Carolina native species at aquariums located at Pine Knoll Shores, Roanoke Island, Fort Fisher, and Jeanette's Ocean Pier, NC.

DATES: Comments must be received no later than 5 p.m., eastern standard time, on November 25, 2011.

ADDRESSES: You may submit comments on the application by any of the following methods:

• E-mail: Karla.Gore@noaa.gov. Include in the subject line of the e-mail comment the following document identifier: “North Carolina Aquariums”.

• Mail: Karla Gore, Southeast Regional Office, NMFS, 263 13th Avenue South, St. Petersburg, FL 33701.

The application and related documents are available for review upon written request to any of the above addresses.

FOR FURTHER INFORMATION CONTACT: Karla Gore, 727-824-5305; e-mail: karla.gore@noaa.gov.

SUPPLEMENTARY INFORMATION: The EFP is requested under the authority of the Magnuson-Stevens Fishery Conservation and Management Act (16 U.S.C 1801 et seq.), and regulations at 50 CFR 600.745(b) concerning exempted fishing.

The proposed species collection involves activities covered by regulations implementing the Fishery Management Plan (FMP) for the Snapper-Grouper Fishery of the South Atlantic Region and the FMP for Coral, Coral Reefs, and Live/Hard Bottom Habitats of the South Atlantic Region. The applicant requires authorization to opportunistically collect 878 live fish in the South Atlantic snapper-grouper complex, and a specified quantity of live rock. The fish, listed by common name (total number of fish), and amount of live rock to be harvested over a 2-year period by North Carolina Aquariums includes: red hind (16), rock hind (16), red grouper (16), gag (16), scamp (16), red porgy (16), yellowfin grouper (9), yellowmouth grouper (16), snowy grouper (12), silk snapper (16), vermilion snapper (78), tomtate (200), smallmouth grunt (100), cottonwick (200), yellowedge grouper (9), graysby (16), coney (16), yellowtail snapper (84), schoolmaster snapper (26), and 300 lb (136 kg) of live rock.

Specimens would be collected in Federal waters from 3 miles (4.8 km) offshore out to 100 fathoms (182 m), from 33°10′ N lat. to 36°30′ N lat. off North Carolina. The project proposes to use hook-and-line gear, black sea bass pots and minnow traps to collect fish, and SCUBA gear to collect live rock by hand. This EFP would authorize sampling operations to be conducted on three vessels to be named by North Carolina Aquariums and designated in the EFP. The specimens would be opportunistically collected year-round for a period of up to 2 years, commencing on the date of issuance of the EFP. The EFP would not authorize the collection of species with an annual catch limit of zero (Red snapper, Warsaw grouper, and Speckled hind).

The overall intent of the project is to incorporate North Carolina native species into the educational exhibits at the four aquariums located at Pine Knoll Shores, Roanoke Island, Fort Fisher, and Jeanette's Ocean Pier, North Carolina. The aquariums use these displays of native North Carolina habitats and species to teach the public about conservation of these resources.

NMFS finds this application warrants further consideration. Based on a preliminary review, NMFS intends to issue an EFP. Possible conditions the agency may impose on this permit, if it is indeed granted, include but are not limited to, a prohibition of conducting research within marine protected areas, marine sanctuaries, special management zones, or artificial reefs without additional authorization. Additionally, NMFS prohibits the possession of Nassau grouper, goliath grouper, red snapper, speckled hind or Warsaw grouper, and requires any sea turtles taken incidentally during the course of fishing or scientific research activities to be handled with due care to prevent injury to live specimens, observed for activity, and returned to the water. The EFP would specify that any harvest of live rock would have to be replaced by an equivalent amount of new rock substrate, or be obtained from a commercial (aquaculture) source. A final decision on the issuance of the EFP will depend on NMFS' review of public comments received on the application, consultations with the affected state, the South Atlantic Fishery Management Council, and the U.S. Coast Guard, and a determination that it is consistent with all applicable laws.

Authority: 16 U.S.C 1801 et seq.

Dated: October 21, 2011.
Emily H. Menashes,
Acting Director, Office of Sustainable Fisheries, National Marine Fisheries Service.

[FR Doc. 2011-27745 Filed 10-25-11; 8:45 am]

BILLING CODE 3510-22-P